DEPARTMENT OF HEALTH AND HUMAN SERVICES

Office of the Secretary

Office of Public Health and Science; Availability of Funds and Requests for Applications for Cooperative Agreements for the National Community Centers of Excellence (CCOE) in Women's Health Program

AGENCY: Office of the Secretary, Office of Public Health and Science, Office on Women's Health.

Purpose

To provide recognition and funding to community-based programs that unite promising approaches in women's health across five components: (1) Comprehensive health service delivery, (2) training for lay and professional health providers, (3) community-based research, (4) public education/outreach, and (5) leadership development for women as health care consumers and providers. The focus of the CCOE initiative is not to develop new programs or to fund direct service or research, but rather to integrate, coordinate, and strengthen linkages between activities that are already underway in the community in order to reduce fragmentation in women's health services and activities. Another major purpose of the CCOE program is to foster the replication of promising models and strategies that coordinate and integrate women's health activities at the community level and improve health outcomes for underserved women.

The CCOE program addresses women's health from a women-centered, holistic, multi-disciplinary, and community-based perspective (see definitions below). Women's health issues are defined in the context of women's lives, including their multiple social roles and the importance of relationships with other people to their lives. This definition of women's health encompasses both mental and physical health (including oral health) and spans the life course.

The CCOE program will operate under cooperative agreements, to allow a collaborative relationship between the CCOE and the federal agencies. The funding agencies of the Department of Health and Human Services (HHS) include the Office on Women's Health; the Office of Minority and Women's Health in the Bureau of Primary Health Care of the Health Resources and Services Administration; and the Office of Minority Health. These agencies will provide technical assistance and oversight as necessary for the implementation, conduct, and assessment of program activities.

HHS is committed to achieving the health promotion and disease prevention objectives of Healthy People 2010. Emphasis will be placed on aligning activities and programs with the Healthy People 2010: Goal 2—eliminating health disparities due to age, gender, race/ethnicity, education, income, disability, living in rural localities, or sexual orientation. More information on the Healthy People 2010 objectives may be found on the Health People 2010 web site: http://www.health.gov/healthypeople. Copies of the Healthy People 2010: Conference Edition Volumes I and II can be purchased by calling (301) 468-5960 (cost $22.00). The reference document entitled “Healthy People 2010: Understanding and Improving Health” is available for $9.00. Another reference is the Healthy People 2000 Review—1998-99. One free copy may be obtained from the National Center for Health Statistics (NCHS), 6525 Belcrest Road, Room 1064, Hyattsville, MD 20782 or telephone (301) 436-8500 (*DHHS Publication No,. (PHS) 99-1256). This document may also be downloaded from the NCHS web site: http://www.cdc.gov/nchs.

Program Goals

1. Reducing the fragmentation of services and access barriers that women encounter by providing a framework for the coordination and integration of comprehensive health services with research, training, and leadership activities in the community to advance women's health.

2. Creating healthier communities with a more integrated and coordinated infrastructure for women's health targeted at underserved women.

3. Empowering underserved women as health care consumers and decision-makers.

4. Increasing the women's health knowledge base with rigorous, community-based research that reflects the health needs and issues of underserved women.

5. Increasing the number of health professionals who have training in working with underserved communities, boosting the number of girls who pursue health careers, and increasing the leadership skills and opportunities for women in the community and those who provide health services to the community.

6. Spreading the successes of model women's health strategies and new innovations to communities across the country.

7. Eliminating health disparities for women who are underserved due to age, gender, race/ethnicity, education, income, disability, living in rural localities, or sexual orientation.

Background

The National Centers of Excellence in Women's Health (CoEs) have been functioning in academic health centers since 1996. The unique feature of the CoE program has been the way it has brought together the disparate set of women's health activities that take place in academic health centers: linking together women's health research, medical education, clinical services, community outreach, and leadership development for women in academic medicine to create a more dynamic and informed system of care. The primary role of the CoEs has been to unite women's health activities and programs, promote multi-disciplinary and cross-departmental collaborations, and institutionalize a more integrative approach to women's health in academic health centers. The success of the CoE model has been rooted in this integrative approach.

The intent of the National Community Centers of Excellence in Women's Health Program (CCOE) is to maintain an emphasis on the linkage, coordination, and sharing of knowledge between different activities in women's health. Like the CoE program, the CCOE program will use an integrative approach, with the funding focused on linking activities rather than on creating new ones from the ground up. The CCOE program will adopt the components of the CoE Program (women's health research, health provider training, comprehensive clinical services, community outreach, and leadership development), but will focus on the community-based organization as the nucleus for operationalizing the new model. The CCOE program will also add a technical assistance component, so that the lessons learned from this unique model can be replicated in other communities around the country.

The CCOE program will be distinct from the CoE program in two important ways:

1. Applicants must be a community hospital, community health center, or other community-based organization. One award will be reserved for a community health center funded under Section 330 of the Public Health Service Act. Applications from academic health centers or organizations that are part of academic health centers will not be accepted as the CoE model is designed for such organizations.

2. To increase the geographic range of the Center of Excellence model, applications will be accepted from organizations in all of the American States and Territories except those that currently have CoE programs including CA, CT, IL, IN, LA, MA, MI, NC, PA, PR, WA, and WI.

As noted in Healthy People 2010, which outlines the health goals for our Nation, most successful community health initiatives involve multiple disciplines and interventions, linking community strengths and resources so that the whole is indeed greater than the sum of its parts. The CCOE program will link resources across women's health activities and disciplines to increase awareness/ knowledge, and to move women's health efforts forward more efficiently.

Eligible Applicants

Applicants must be a public or private nonprofit community-based hospital, community health center, or community-based organization serving underserved women. Academic health centers or organizations that are part of academic health centers are not eligible for funds under this announcement. To increase the geographic range of the overall Center of Excellence model, applications will be accepted from organizations in all of the American States and Territories except those which already have a National Center of Excellence in Women's Health (CoE) program. Thus applications will not be accepted from programs in the following states: CA, CT, IL, IN, LA, MA, MI, NC, PA, PR, WA, WI. One award will be reserved for a community health center funded under section 330 of the Public Health Service Act.

Deadline

To receive consideration, applications must be received by June 30, 2000 at 2 p.m. (Eastern Time). Applications will be considered as meeting the deadline if they are: (1) Received on or before the deadline date, or (2) postmarked on or before the deadline date and received in time for orderly processing. A legibly dated receipt from a commercial carrier or U.S. Postal Service will be accepted in lieu of a postmark. Private metered postmarks will not be accepted as proof of timely mailing. Application submitted by facsimile transmission (FAX) or any other electronic format will not be accepted. Applications which do not meet the deadline will be considered late and will be returned to the applicant unread.

Addresses/Contacts

Applications must be prepared using Form PHS 5161-1 (Revised June 1999). Application kits and questions regarding programmatic information and/or requests for technical assistance in the preparation of grant applications should be directed in writing to Ms. Anna Kindermann, Division of Program Management, Office on Women's Health, Parklawn Building, Room 16A-55, 5600 Fishers Lane, Rockville MD 20857, email: akindermann@osophs.dhhs.gov.

Completed applications are to be submitted to: Ms. Anna Kindermann, Division of Program Management, Office on Women's Health, Parklawn Building, Room 16A-55, 5600 Fishers Lane, Rockville MD 20857.

Technical assistance on budget and business aspects of the application may be obtained from Ms. Carolyn A. Williams, Grants Management Officer, Division of Management Operations, Office of Minority Health, Office of Public Health and Science, Rockville, MD, 20852, telephone (301) 594-0758, Ext. 157.

Availability of Funds

Approximately $450,000 is available for award in FY 2000 under this announcement. It is projected that awards of up to $150,000 total costs (direct and indirect) for a 12-month period will be made to approximately 3 competing applicants.

Period of Support

The start date for the cooperative agreement is September 30, 2000. Support may be requested for a total project period not to exceed 5 years. Noncompeting continuation awards of up to $150,000 will be made subject to satisfactory performance and availability of funds.

Use of Grant Funds

Project Requirements

The major component of a CCOE program must consist of activities aimed at developing and strengthening a framework for bringing together a comprehensive array of services for women, and connecting those with promising strategies to: train a cadre of health care providers that are capable of addressing underserved women's health needs at the community level with an emphasis on prevention or moderation of illness or injury that appear controllable through individual knowledge and behavior; conduct participatory, community-based research in women's health; enhance public education and outreach activities in women's health with an emphasis on prevention or moderation of illness or injury that appear controllable through individual knowledge and behavior; and promote leadership/career development for women in the health professions and women/girls in the community. A project may develop outreach and education materials, training programs, and leadership development activities/materials. Award recipients must also, with input from community representatives, put into place and track a set of measurable objectives for improving health outcomes and decreasing health disparities for underserved women in the community.

Each CCOE must also demonstrate an ability to foster the transfer of lessons learned and successful strategies. These may include either process-based lessons (for example: How to bring multiple community partners together) or outcomes-based lessons (for example: How to increase diabetes screening and control through improved outreach, education, and treatment). The CCOEs must foster the replication of promising models from their sites through activities such as showcasing them at meetings and workshops; providing direct technical assistance to other communities; developing replication guides/materials; and providing technical assistance to health professionals, directly or through their professional organizations, interested in working with under-served women in the community.

Use of Funds

A majority (75%) of the funds from the CCOE award must be targeted at staffing and efforts aimed at coordinating and integrating the major components of the CCOE program. The remainder (25%) of the award funding must be targeted at staff and efforts to foster the transfer of lessons learned/successful strategies from the CCOE program.

Funds may be used to cover costs of personnel, consultants, supplies (including screening, education, and outreach supplies), equipment, and grant related travel. Funds may not be used for construction, building alterations, medical treatment, or renovations. All budget requests must be fully justified in terms of the proposed goals and objectives and include a computational explanation of how costs were determined.

Criteria for Evaluating Applications

Review of Applications

Applications will be screened upon receipt. Those that are judged to be incomplete, non-responsive to the announcement or nonconforming will be returned without comment. Accepted application will be reviewed for technical merit in accordance with PHS policies. Applications will be evaluated by a technical review panel composed of government experts in the fields of program management, community service delivery, community outreach, health education, community research, and community leadership development. Consideration will be given to applicants that demonstrate progress toward eliminating health disparities through the integration of services, research, education, training, and leadership/career development. Preference will also be given to applicants located in rural, medically underserved areas. Applicants are advised to pay close attention to the specific program guidelines and general instructions in the application kit.

Application Requirements

Each applicant for a cooperative agreement funded under this announcement must:

1. Be a sustainable organization with an established network of partnering organizations capable of ensuring a coordinated women's health system in the community. The network of partnering organizations must have the capacity to plan and coordinate comprehensive health services (as defined below) for women and unite them with community-based women's health research, teaching/training opportunities in community women's health, leadership opportunities for women in health, and community outreach/education activities in women's health.

2. Demonstrate the ways in which the organization and the care that is coordinated through its partners are women-focused and sensitive to the importance of patient/provider communication/ relationships for medically underserved women of all ages. The care that is coordinated through this organization must be focused on health promotion, disease prevention, and treatment.

3. Detail/specify the roles and resources that each partnership organization will bring to the project and state the duration and terms of agreement, as confirmed by a signed agreement between the applicant organization and each partner. The documents must be signed by individuals with the authority to represent the organization (e.g., president chief executive officer, executive director).

Application Review Criteria: The technical review of applications will consider the following factors:

Factor 1: Background—10%

Adequacy of demonstrated knowledge of systems of health care for underserved women at the local level; demonstrated need within the proposed community and target population of underserved women; demonstrated support and established linkages in order to conduct proposed National Community Center of Excellence in Women's Health model; extent and documented outcome of past efforts/activities with underserved women.

Factor 2: Objectives—10%

Merit of the objectives outlined by the applicant to address the CCOE program goals (outlined above) in a way relevant to community needs and resources. Objectives should be measurable and attainable in the stated time frame.

Factor 3: Methodology—55%

I. Extent to which the applicant demonstrates access to medically underserved women.

II. Soundness of pre-existing community resources and linkages that can be built upon and coordinated to meet the requirements of the CCOE program.

III. Appropriateness of proposed approach and specific activities described to address each element of the National Community Center of Excellence in Women's Health program including 1.comprehensive women's health services, 2. public outreach and education, 3. training for professional and lay health care workers working with underserved women, 4. participatory community-based research, 5. leadership/career development for women providers, and women/girls in the community, and 6. ability to train others in lessons learned and replication of successful strategies.

IV. Soundness of evaluation objectives for measuring program effectiveness and changes in health outcomes.

Factor 4: Management Plan—15%

Applicant organization's capability to manage and evaluate the project as determined by: the qualifications of proposed staff or requirements for “to be hired” staff, proposed staff level of effort, management experience of the lead agency; and the experience of each partnership organization as it relates to its defined roles and to the National Center of Excellence in Women's Health model.

Factor 5: Evaluation—10%

Thoroughness, feasibility and appropriateness of the evaluation design, and data collection and analysis procedures for the establishment of a National Community Center of Excellence in Women's Health. Potential for replication of the project for similar target populations and communities.

Award Criteria

Funding decisions will be determined by the Director, Division for Program Management, Office on Women's Health, and will take under consideration: the recommendations and ratings of the review panel; funding preference; geographic distribution; and health problem areas having the greatest impact on women's health. Consideration will be given to projects proposed to be implemented in Empowerment Zones, Enterprise Communities; and preference to those in rural, medically underserved areas.

Definitions

For the purposes of this cooperative agreement program, the following definitions are provided:

Community-based: In which the locus of control and decision-making powers are located at the community level, representing the community or a significant segment of the community.

Community-based Organization: Public and private, non-profit organizations which are representative of communities or significant segments of communities.

Community health center: A community-based organization that provides comprehensive primary care and preventive services to medically underserved populations. This includes but is not limited to Federally Qualified health centers, Federally Qualified health center look-alike, Migrant Health Centers, Primary Care Public Housing Health Centers, Healthcare for the Homeless Centers, and other community-based health centers.

Comprehensive women's health services: Services including, but going beyond traditional reproductive health services to address the health needs of underserved women in the context of their lives, including a recognition of the importance of relationships in women's lives, and the fact that women play the role of health providers and decision-makers for the family. Services include basic primary care services; acute, chronic, and preventive services; mental and dental health services; patient education and counseling; promotion of healthy behaviors (like nutrition, smoking cessation, substance abuse services); and enabling services. Ancillary services are also provided such as laboratory tests, X-ray, environmental, and pharmacy services.

Coordinated care: The formal linkages, case management services, partnering arrangements, and patient advocate supports that rationalize women's health resources and help underserved women to navigate through the comprehensive health services they need. Community-based organizations are expected to coordinate with State and local health departments, nonprofit organizations, academic institutions, or other local organizations in the community as appropriate.

Culturally competent: Information and services provided in the language, educational, and cultural context that is most appropriate for the individuals for whom the information and services are intended.

Enabling services: Services that help women access health care, such as transportation, translation, child care, and case management.

Healthy People 2010: A set of national health objectives that outlines the prevention agenda for the Nation. Healthy People 2010 identifies the most significant preventable threats to health and establishes national goals for the next ten years. Individuals, groups, and organizations are encouraged to integrate Healthy People 2010 into current programs, special events, publications, and meetings. Businesses can use the framework, for example, to guide worksite health promotion activities as well as community-based initiatives. Schools, colleges, and civic and faith-based organizations can undertake activities to further the health of all members of their community. Health care providers can encourage their patients to pursue healthier lifestyles and to participate in community-based programs. By selecting from among the national objectives, individuals and organizations can build an agenda for community health improvement and can monitor results over time.

Holistic: Looking at women's health from the perspective of the whole person and not as a group of different body parts. It includes mental as well as physical health.

Integrated: In the CCOE context, the bringing together of the numerous spheres of activity that touch women's health, including clinical services, research, health training, public health outreach and education, and leadership development for women. The goal of this approach is to unite the strengths of each of these areas, and create a more informed and efficient system of women's health for underserved women.

Multi-disciplinary: An approach that is based on the recognition that women's health crosses many disciplines, and that women's health issues need to be addressed across multiple disciplines, such as adolescent health, geriatrics, cardiology, mental health, reproductive health, nutrition, dermatology, endocrinology, immunology, rheumatology, etc.

Participatory, community-based research: Research in which community members participate on equal footing, to maximize the potential for exchange in knowledge and implementation of research findings. Community members work with researchers to help determine research issues, shape the research process/ objectives, and bring research results back to the community. The shared goal is to maintain scientific rigor in the research methods, while also incorporating the skills, knowledge, and strengths of the participants/beneficiaries of the research. There is an emphasis on ensuring that research results are translated into practice and communicated back to the community.

Sustainability: An organization's or program's staying power: the capacity to maintain both the financial resources and the partnerships/linkages needed to provide the services demanded by the CCOE program. It also involves the ability to survive change, incorporate needed changes, and seize opportunities provided by a changing environment.

Underserved Women: In the context of the CCOE model, women who encounter barriers to health care that result from any combination of the following characteristics: poverty, ethnicity and culture, mental or physical state, housing status, geographic location, language, sexual orientation, age, and lack of health insurance.

Women-centered: Addressing the needs and concerns of women in an environment that is welcoming to women, fosters a commitment to women, treats women with dignity, and empowers women through respect and education. The emphasis is on working with women not for women. Women clients are considered active partners in their own health and wellness.

Reporting and Other Requirements

General Reporting Requirements

In addition to those listed above, a successful applicant will submit an annual progress report, an annual Financial Status Report, and a final Progress Report and a final Financial Status Report in the format established by the Office on Women's Health, in accordance with provisions of the general regulations which apply under “Monitoring and Reporting Program Performance,” 45 CFR part 74, Subpart J and Part 92

Provision of Smoke-Free Workplace and Nonuses of Tobacco Products by Recipients of PHS Grants

HHS strongly encourages all grant recipients to provide a smoke-free workplace and to promote the nonuse of all tobacco products. In addition, Public Law 103-227, the Pro-Children Act of 1994, prohibits smoking in certain facilities (or in some cases, any portion of a facility) in which regular or routine education, library, day care, health care or early childhood development services are provided to children.

Public Health System Reporting Requirements

This program is subject to the Public Health Systems Reporting Requirements. Under these requirements, a community-based non-governmental applicant must prepare and submit a Public Health System Impact Statement (PHSIS). The PHSIS is intended to provide information to State and local health officials to keep them apprised on proposed health services grant applications submitted by community-based non-governmental organizations within their jurisdictions.

Community-based, non-governmental applicants are required to submit, no later than the Federal due date for receipt of the application, the following information to the head of the appropriate state and local health agencies in the area(s) to be impacted: (a) a copy of the face page of the application (SF 424), (b) a summary of the project (PHSIS), not to exceed one page, which provides: (1) A description of the population to be served, (2) a summary of the services to be provided, (3) a description of the coordination planned with the appropriate state or local health agencies. Copies of the letters forwarding the PHSIS to these authorities must be contained in the application materials submitted to the Office on Women's Health.

State Reviews

This program is subject to the requirements of Executive Order 12372 which allows States the option of setting up a system for reviewing applications from within their States for assistance under certain Federal programs. The application kit to be made available under this notice will contain a listing of States which have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC of each affected State. The due date for State process recommendations is 60 days after the application deadline. The Office on Women's Health does not guarantee that it will accommodate or explain its responses to State process recommendations received after that date. (See “Intergovernmental Review of Federal Programs,” Executive Order 12372, and 45 CFR Part 100 for a description of the review process and requirements.)

Authority: This program is authorized by 42 U.S.C. 300u-2(a)(1), 300u-3, and 300u-6(e).

OMB Catalog of Federal Domestic Assistance

The OMB Catalog of Federal Domestic Assistance Number is pending.

Dated: May 11, 2000.
David Satcher,
Assistant Secretary for Health and Surgeon General.

[FR Doc. 00-12462 Filed 5-17-00; 8:45 am]

BILLING CODE 4160-17-U